DEPARTMENT OF STATE

[Public Notice 12879]

30-Day Notice of Proposed Information Collection: Nontransfer and Use Certificate

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to January 12, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Andrea Battista, SA-1, 12th Floor, Directorate of Defense Trade Controls, Bureau of Political Military Affairs, U.S. Department of State, Washington, DC 20522-0112, via phone at (202) 663-3136, or via email at battistaal@state.gov.

SUPPLEMENTARY INFORMATION:

• Title of Information Collection: Nontransfer and Use Certificate.

• OMB Control Number: 1405-0021.

• Type of Request: Extension of Currently Approved Collection.

• Originating Office: Bureau of Political-Military Affairs, Directorate of Defense Trade Controls, PM/DDTC.

• Form Number: DSP-83.

• Respondents: Business, Nonprofit Organizations, and Individuals.

• Estimated Number of Respondents: 2,947.

• Estimated Number of Responses: 2,947.

• Average Time per Response: 1 hour.

• Total Estimated Burden Time: 2,947.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Pursuant to ITAR § 123.10, a completed “Nontransfer and Use Certificate” (OMB No. 1405-0021, Form DSP-83) must be received by DDTC for the export of significant military equipment and classified articles, including classified technical data. Pursuant to ITAR § 124.10, a completed “Nontransfer and Use Certificate” must be submitted with any manufacturing license agreement or technical assistance agreement that relates to significant military equipment or classified defense articles, including classified technical data. In both cases, the foreign consignee (if applicable), foreign end-user, and applicant execute this form. By signing the certificate the foreign end-user certifies that they will not, except as specifically authorized by prior written approval of the Department of State, re export, resell or otherwise dispose of the defense articles enumerated in the application (1) outside the foreign country named as the country of ultimate destination; or (2) to any other person. With respect to agreements that involve classified articles or classified technical data, an authorized representative of the foreign government must also sign the form.

Methodology

This information collection may be sent to the Directorate of Defense Trade Controls via the following methods: electronically or mail.

Michael J. Vaccaro,
Deputy Assistant Secretary for Defense Trade Controls, U.S. Department of State.

[FR Doc. 2025-22524 Filed 12-10-25; 8:45 am]

BILLING CODE 4710-25-P